DEPARTMENT OF LABOR

Employment and Training Administration

[TA-W-71,052]

Clarity Technologies, Inc., Auburn Hills, MI; Notice of Termination of Investigation

Pursuant to Section 223 of the Trade Act of 1974, as amended, an investigation was initiated in response to a petition filed on June 6, 2009 by a Washington State agency representative on behalf of workers of Clarity Technologies, Inc., Auburn Hills, Michigan.

The petition has been deemed invalid. A State agency representative or One-Stop Office Operator/Partner may not file a petition on behalf of workers of a firm located in another State. Consequently, the investigation has been terminated.

Signed at Washington, DC this 16th day of July, 2009.
Linda G. Poole,
Certifying Officer, Division of Trade Adjustment Assistance.

[FR Doc. E9-18179 Filed 7-29-09; 8:45 am]

BILLING CODE 4510-FN-P